DEPARTMENT OF ENERGY

Federal Energy Regulatory Commission

[Docket No. EC04-125-000, et al.]

El Paso CGP Company, et al.; Electric Rate and Corporate Filings

July 1, 2004.

The following filings have been made with the Commission. The filings are listed in ascending order within each docket classification.

1. El Paso CGP Company, El Paso Merchant Energy—Petroleum Company, Rensselaer Plant Holdco, L.L.C., Fulton Cogeneration Associates, L.P., Lion Capital Management, LLC, Fimab, Promeneur & Hausmann, Inc.

[Docket No. EC04-125-000]

Take notice that on June 25, 2004, El Paso CGP Company (CGP), El Paso Merchant Energy—Petroleum Company (EPMEPC), Rensselaer Plant Holdco, L.L.C. (RPH), Fulton Cogeneration Associates, L.P. (FCA), Lion Capital Management, LLC (Lion Capital and Fimab, Promeneur & Hausmann, Inc. (FPH) (jointly, Applicants) filed with the Federal Energy Regulatory Commission an application pursuant to section 203 of the Federal Power Act requesting that the Commission: (i) approve the internal corporate transfer of membership interests in FCA from CGP to RPH and EPMEPC and (ii) authorize the subsequent sale and transfer of RPH's and EPMEPC's partnership interests in FCA to Lion Capital and FPH. Applicants state that these transactions will (i) effectuate an internal corporate reorganization resulting in an indirect change of control over the FPA jurisdictional facilities owned by FCA, and (ii) result in a change of control over the jurisdictional facilities owned by FCA. Applicants requested privileged treatment for certain exhibits pursuant to 18 CFR 33.9 and 388.112.

Comment Date: July 16, 2004.

2. Northern Iowa Windpower II LLC

[Docket Nos. EC04-126-000 and ER02-2085-002]

Take notice that on June 29, 2004, Northern Iowa Windpower II LLC (the Applicant), submitted an application pursuant to section 203 of the Federal Power Act seeking authorization for a series of transactions that collectively result in the transfer of indirect control of Applicant's jurisdictional facilities, including rate schedules for sales of power at wholesale and jurisdictional books and records. Applicant states they are filing a notice of change in status with respect to the rate schedule, and Applicant requests certain waivers.

Applicant states that the transactions will have no effect on competition, rates or regulations and are in the public interest.

Comment Date: July 22, 2004.

3. Westridge Windfarm, LLC

[Docket No. EG04-83-000]

Take notice that on June 28, 2004, Westridge Windfarm, LLC (Westridge) filed with the Federal Energy Regulatory Commission an application for determination of exempt wholesale generator status pursuant to part 365 of the Commission's regulations.

Westridge states that it owns and operates a 1.9 MW wind energy conversion facility in Woodstock, Minnesota, which sells its entire output to Northern States Power Company exclusively at wholesale pursuant to a long-term power purchase agreement. Westridge further states that the facility interconnects with NSP on an NSP 69 kV transmission line in Minnesota and the Westridge facility includes only those interconnection facilities needed to deliver energy from the facility to NSP for its wholesale sale and purchase.

Comment Date: July 19, 2004.

4. TG Windfarm, LLC

[Docket No. EG04-84-000]

Take notice that on June 28, 2004, TG Windfarm, LLC (TG) filed with the Federal Energy Regulatory Commission an application for determination of exempt wholesale generator status pursuant to part 365 of the Commission's regulations.

TG states that it is a Minnesota limited liability company owned and operated by Tyler Juhl, a Minnesota resident. TG further states that Edison Capital, an indirect, wholly-owned subsidiary of Edison International, proposes to acquire 99% of TG and Edison International is the parent company of Southern California Edison Company, a public utility under the Federal Power Act.

TG states that no State regulatory approvals or determinations were sought or received with respect to the facility or the power purchase agreement.

Comment Date: July 19, 2004.

5. Bisson Windfarm, LLC

[Docket No. EG04-85-000]

Take notice that on June 28, 2004, Bisson Windfarm, LLC (Bisson) filed with the Federal Energy Regulatory Commission an application for determination of exempt wholesale generator status pursuant to part 365 of the Commission's regulations.

Bisson states that it is a Minnesota limited liability company owned and operated by Peter and Maurine Bisson, Minnesota residents. Bisson further states that Edison Capital, an indirect, wholly-owned subsidiary of Edison International, proposes to acquire 99% of Bisson and Edison International is the parent company of Southern California Edison Company, a public utility under the Federal Power Act.

TG states that no state regulatory approvals or determinations were sought or received with respect to the facility or the power purchase agreement.

Comment Date: July 19, 2004.

6. K-Brink Windfarm, LLC

[Docket No. EG04-86-000]

Take notice that on June 28, 2004, K-Brink Windfarm, LLC (K-Brink) filed with the Federal Energy Regulatory Commission an application for determination of exempt wholesale generator status pursuant to part 365 of the Commission's regulations.

K-Brink states that it is a Minnesota limited liability company owned and operated by Aleanor Kruisselbrink, a Minnesota resident. K-Brink further states that Edison Capital, an indirect, wholly-owned subsidiary of Edison International, proposes to acquire 99% of K-Brink and Edison International is the parent company of Southern California Edison Company, a public utility under the Federal Power Act.

K-Brink states that no State regulatory approvals or determinations were sought or received with respect to the facility or the power purchase agreement.

Comment Date: July 19, 2004.

7. Southwest Power Pool, Inc.

[Docket No. ER04-434-002]

Take notice that on June 29, 2004, Southwest Power Pool, Inc. (SPP) submitted to the Commission a compliance filing providing for changes to its currently effective Open Access Transmission Tariff (OATT). SPP states that it filed a modification to its pro forma agreement allocating responsibilities between SPP and the transmission owners with regard to generation interconnections, as required by the Commission's order issued on June 21, 2004, in Docket No. ER04-434-001. SPP requested an effective date of April 26, 2004, in order to coincide with the effective date of the compliance filing submitted by SPP on April 19, 2004.

SPP states that it has served a copy of its transmittal letter on each of its Members and Customers, as well as on all generators in existing generation queue. SPP indicated that a complete copy of this filing will be posted on the SPP Web site http://www.spp.org, and is also being served on all affected State commissions.

Comment Date: July 20, 2004.

8. Central Maine Power Company

[Docket No. ER04-963-000]

Take notice that on June 29, 2004, Central Maine Power Company (CMP) submitted for filing an unexecuted Service Agreement for Long Term Firm Local Point-to-Point Transmission Service with Kezar Falls Hydro, LLC.

CMP states that copies of this filing have been served on the Maine Public Utilities Commission, and the persons identified on the enclosed Service List.

Comment Date: July 20, 2004.

9. Midwest Independent Transmission System Operator, Inc.

[Docket No. ER04-964-000]

Take notice that on June 29, 2004, Midwest Independent Transmission System Operator, Inc. (Midwest ISO) submitted for filing pursuant to section 205 of the Federal Power Act and section 35.12 of the Commission's regulations, 18 CFR 35.12 (2003), the Interconnection Agreement among Southern Indiana Gas and Electric Company d/b/a Vectren Energy Delivery, the Midwest ISO and Cinergy Services, Inc. Midwest requests an effective date of June 1, 2004.

Midwest ISO states that a copy of this filing was served on all parties.

Comment Date: July 20, 2004.

10. Consolidated Edison Solutions, Inc.

[Docket No. ER04-965-000]

Take notice that on June 29, 2004, Consolidated Edison Solutions, Inc. (CES) submitted for filing an amendment to its Tariff for the Wholesale Sale of Electricity at Market-Based Rates to include, among other things, the Market Behavior Rules by the Commission order issued November 17, 2003, in Docket No. EL01-118-000, Investigation of Terms and Conditions of Public Utility Market-Based Rate Authorizations, 105 FERC ¶ 61,218 (2003). CES requests an effective date of December 17, 2003.

CES states that it has served this filing on all parties to Docket No. ER04-965-000 and on the New York Public Service Commission.

Comment Date: July 20, 2004.

11. Niagara Mohawk Power Corporation

[Docket No. ER04-966-000]

Take notice that on June 29, 2004, Niagara Mohawk Power Corporation, (Niagara Mohawk) submitted for filing its Second Revised Interconnection Service Agreement No. 319 between Niagara Mohawk and Hydro One Networks Inc., and, its Second Revised Interconnection Service Agreement No. 320 between Niagara Mohawk and Independent Electricity Market Operator.

Niagara Mohawk states that a copy of this filing will be served upon Hydro One and IMO, as well as the New York Independent System Operator, Inc., the New York Public Service Commission, and any other party listed on the Commission's official service list in Docket No. ER03-502.

Comment Date: July 20, 2004.

12. Central Maine Power Company

[Docket No. ER04-967-000]

Take notice that on June 29, 2004, Central Maine Power Company (CMP) submitted for filing an unexecuted Service Agreement for Long Term Firm Local Point-to-Point Transmission Service with Ledgemere Hydro, LLC. CMP requests an effective date of December 23, 2003.

CMP states that copies of this filing have been served on the Maine Public Utilities Commission, and the persons identified on the Service List.

Comment Date: July 20, 2004.

13. Central Maine Power Company

[Docket No. ER04-968-000]

Take notice that on June 29, 2004, Central Maine Power Company (CMP) submitted for filing an unexecuted Service Agreement for Local Network Transmission Service and an unexecuted Service Agreement for Long Term Firm Local Point-to-Point Transmission Service with Messalonskee Stream Hydro, LLC. CMP requests an effective date of December 23, 2003.

CMP states that copies of this filing have been served on the Maine Public Utilities Commission, and the persons identified on the Service List.

Comment Date: July 20, 2004.

14. Florida Power Corporation

[Docket No. ER04-969-000]

Take notice that on June 29, 2004, Florida Power Corporation (FPC) tendered for filing an executed DG Telogia Generating Facility Parallel Operation Agreement between FPC and Seminole Electric Cooperative. FPC is requesting an effective date of June 1, 2004, for this Rate Schedule.

FPC states that a copy of the filing was served upon the Florida Public Service Commission and the North Carolina Utilities Commission.

Comment Date: July 20, 2004.

15. FirstEnergy Solutions Corp.

[Docket No. ER04-970-000]

Take notice that on June 29, 2004, FirstEnergy Solutions Corp. (FE Solutions) tendered for filing a Redispatch Agreement with PJM Interconnection, L.L.C. (PJM). FE Solutions states that the Redispatch Agreement establishes the rates, terms and conditions under which FE Solutions may redispatch Units 3, 4 and 5 of the W.H. Sammis Plant in Stratton, Ohio upon the request of PJM to alleviate transmission constraints on the PJM transmission system. FE Solutions requests an effective date of July 1, 2004.

FE Solutions states that a copy of this filing has been served on PJM and regulators in Ohio.

Comment Date: July 20, 2004.

16. Golden Spread Electric Cooperative, Inc.

[Docket No. ER04-971-000]

Take notice that on June 29, 2004, Golden Spread Electric Cooperative, Inc. (Golden Spread) tendered for filing with the Commission a Fourth Informational Filing to Golden Spread Rate Schedule No. 35. Golden Spread states that The Fourth Informational Filing updates the formulary fixed costs associated with replacement energy sales by Golden Spread to Southwestern Public Service Company (Southwestern).

Golden Spread states that a copy of this filing has been served upon Southwestern.

Comment Date: July 20, 2004.

17. Midwest Independent Transmission System Operator, Inc.

[Docket No. ES04-40-000]

Take notice that on June 24, 2004, Midwest Independent Transmission System Operator, Inc. (Midwest ISO) submitted an application pursuant to section 204 of the Federal Power Act seeking authorization to make long-term borrowings in an amount not to exceed $80 million at any one time.

Midwest ISO also requests a waiver from the Commission's competitive bidding and negotiated placement requirements at 18 CFR 34.2.

Comment Date: July 22, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1609 Filed 7-15-04; 8:45 am]

BILLING CODE 6717-01-P